DEPARTMENT OF COMMERCE

National Oceanic and Atmospheric Administration

50 CFR Part 622

[Docket No. 211217-0261; RTID 0648-XE473]

Reef Fish Resources of the Gulf of Mexico; 2024 Commercial and Recreational Accountability Measure and Closures for Gulf of Mexico Lane Snapper

AGENCY: National Marine Fisheries Service (NMFS), National Oceanic and Atmospheric Administration (NOAA), Commerce.

ACTION: Temporary rule; closure.

SUMMARY: NMFS implements an accountability measure (AM) for the lane snapper commercial and recreational sectors in the exclusive economic zone (EEZ) of the Gulf of Mexico (Gulf) for the 2024 fishing year through this temporary rule. NMFS projects that the 2024 stock annual catch limit (ACL) for Gulf lane snapper has been reached. Therefore, NMFS closes the commercial and recreational sectors for Gulf lane snapper on November 26, 2024, and they will remain closed through December 31, 2024. These closures are necessary to protect the Gulf lane snapper resource.

DATES: This temporary rule is effective from 12:01 a.m., local time, on November 26, 2024, through December 31, 2024.

FOR FURTHER INFORMATION CONTACT: Frank Helies, NMFS Southeast Regional Office, 727-824-5305, Frank.Helies@noaa.gov.

SUPPLEMENTARY INFORMATION: NMFS manages the Gulf reef fish fishery, which includes lane snapper, under the Fishery Management Plan for the Reef Fish Resources of the Gulf of Mexico (FMP). The FMP was prepared by the Gulf of Mexico Fishery Management Council (Council), approved by the Secretary of Commerce, and is implemented by NMFS under the authority of the Magnuson-Stevens Fishery Conservation and Management Act (Magnuson-Stevens Act) through regulations at 50 CFR part 622. All lane snapper weights discussed in this temporary rule are in round weight.

The current stock ACL for Gulf lane snapper was implemented on October 18, 2024, and is 1,088,873 lb (493,904 kg) (50 CFR 622.41(k)) (89 FR 76438, September 18, 2024). As specified in 50 CFR 622.41(k), if the sum of the commercial and recreational landings reaches or is projected to reach the stock ACL, NMFS will close the commercial and recreational sectors for the remainder of the fishing year. Based on latest landings estimates, which were available in October 2024, NMFS has determined that the stock ACL for Gulf lane snapper has been reached. Accordingly, this temporary rule closes the commercial and recreational sectors for Gulf lane snapper effective at 12:01 a.m., local time, on November 26, 2024, and both sectors will remain closed through the end of the current fishing year on December 31, 2024.

During the commercial and recreational closures, all harvest or possession in or from the Gulf EEZ of lane snapper is prohibited. The prohibition on possession of Gulf lane snapper also applies in Gulf state waters for a vessel issued a valid Federal charter vessel/headboat permit for Gulf reef fish. During the closures, the operator of a vessel with a valid commercial vessel permit for Gulf reef fish having lane snapper on board must have landed and bartered, traded, or sold such lane snapper prior to 12:01 a.m., local time, on November 26, 2024. The prohibition on the sale or purchase of lane snapper does not apply to fish that were harvested, landed, and sold prior to 12:01 a.m., local time, on November 26, 2024, and were held in cold storage by a dealer or processor.

Classification

NMFS issues this action pursuant to section 305(d) of the Magnuson-Stevens Act. This action is required by 50 CFR 622.41(k), which was issued pursuant to section 304(b) of the Magnuson-Stevens Act, and is exempt from review under Executive Order 12866.

Pursuant to 5 U.S.C. 553(b)(B), there is good cause to waive prior notice and opportunity for public comment on this action, as prior notice and public comment are unnecessary and contrary to the public interest. Such procedures are unnecessary because the regulation authorizing this temporary closure, 50 CFR 622.41(k), has already been subject to prior notice and public comment, and all that remains is to notify the public of the closure. Prior notice and opportunity for public comment are contrary to the public interest because there is a need to immediately implement this action to protect the lane snapper stock. Prior notice and opportunity for public comment would require time and allow for additional harvest in excess of the stock ACL.

For the aforementioned reasons, the Assistant Administrator also finds good cause to waive the 30-day delay in the effectiveness of this action under 5 U.S.C. 553(d)(3).

Authority: 16 U.S.C. 1801 et seq.

Dated: November 21, 2024.
Karen H. Abrams,
Acting Director, Office of Sustainable Fisheries, National Marine Fisheries Service.

[FR Doc. 2024-27699 Filed 11-21-24; 4:15 pm]

BILLING CODE 3510-22-P